DEPARTMENT OF ENERGY

Agency Information Collection Extension

AGENCY: Energy Efficiency and Renewable Energy, U.S. Department of Energy.

ACTION: Notice and request for comments.

SUMMARY: The Department of Energy (DOE), pursuant to the Paperwork Reduction Act of 1995, intends to extend for three years an information collection request with the Office of Management and Budget (OMB).

DATES: Comments regarding this proposed information collection must be received on or before October 15, 2019. If you anticipate difficulty in submitting comments within that period, contact the person listed below as soon as possible.

ADDRESSES: Written comments may be sent to Mr. Chris Early, U.S. Department of Energy, Building Technologies Program, Mail Stop EE-5B, Forrestal Building, 1000 Independence Avenue SW, Washington, DC 20585-0121 or by fax at 202-287-1460 or by email to Chris.Early@ee.doe.gov.

FOR FURTHER INFORMATION CONTACT: Requests for additional information or copies of the information collection instrument and instructions should be directed to Mr. Chris Early, U.S. Department of Energy, Building Technologies Program, Mail Stop EE-5B, Forrestal Building, 1000 Independence Avenue SW, Washington, DC 20585-0121,or by email at Chris.Early@ee.doe.gov, telephone: (202) 586-0514.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5184 (2) Information Collection Request Title: Programs for Improving Energy Efficiency in Buildings; (3) Type of Review: Extension; (4) Purpose: The proposed collection will enable DOE to understand the universe of organizations participating in building energy load management programs including the following four voluntary programs: The Home Performance with ENERGY STAR Program, the Home Energy Score Program, the Better Buildings Residential Network, and the Zero Energy Ready Home Program. DOE encourages and assists the people and organizations that voluntarily participate in energy efficiency programs to build or renovate buildings for the purposes of improved efficiency, reliability, and affordability. The partners who voluntarily participate in the programs include: Home builders, building trades and building-related associations, home design professionals, home energy raters and auditors, home inspectors, building consultants, manufacturers of building products, retailers, utility companies, financial institutions, non-profit organizations, educational institutions, energy program administrators and implementers, Home Performance with ENERGY STAR sponsors, state or local government energy offices or agencies, and other organizations that believe peer sharing will help them improve their effectiveness in encouraging effective energy upgrades. DOE proposes to continue to collect information such as names of program participants and names of organizations and addresses; estimates of how many homes they can get to participate in the programs, and information about building stock (no building owner information is collected) and load management strategies. The collected information helps DOE understand the participating partners' activities and progress toward achieving scheduled milestones enabling DOE to make decisions about the best way to respond to partners' needs to improve their operations and actions to lower energy consumption and improve affordability; (5) Annual Estimated Number of Respondents: 2037; (6) Annual Estimated Number of Total Responses: 92,824. (7) Annual Estimated Number of Burden Hours: 15,828. (8) Annual Estimated Reporting and Recordkeeping Cost Burden: zero dollars. DOE estimates that there are no additional costs to participants other than the costs associated with the burden hours.

Statutory Authority: The U.S. Code, Title 42, Chapter 149, Subchapter IX, Part A, Section 16191—Energy Efficiency.

Signed in Washington, DC, on August 7, 2019.
David Nemtzow,
Director, Building Technologies Office, Energy Efficiency and Renewable Energy.

[FR Doc. 2019-17635 Filed 8-15-19; 8:45 am]

BILLING CODE 6450-01-P